DEPARTMENT OF HOMELAND SECURITY

Coast Guard

33 CFR Part 117

[Docket No. USCG-2017-0595]

Drawbridge Operation Regulation; Jamaica Bay, Queens, NY

AGENCY: Coast Guard, DHS.

ACTION: Notice of deviation from drawbridge regulation; cancellation.

SUMMARY: The Coast Guard is canceling the temporary deviation concerning the Marine Parkway (Gil Hodges) Bridge across the Rockaway Inlet, mile 3.0, at Queens, NY. The deviation cancellation is necessary to accommodate Metropolitan Transportation Authority's (MTA) (the bridge owner) unexpected emergency repairs requiring a complete closure of the Bridge and an extension of time for their completion. This cancellation is necessary so a temporary interim rule may be approved due to the requested extension exceeding the 180 day limit for deviations. Existing federal regulations do not allow back-to-back deviations.

DATES: The temporary deviation published on July 6, 2017 (82 FR 31255), is cancelled as of 12:01 a.m. on November 27, 2017.

ADDRESSES: The docket for this deviation, USCG-2017-0595 is available at http://www.regulations.gov. Type the docket number in the “SEARCH” box and click “SEARCH.” Click on Open Docket Folder on the line associated with this deviation.

FOR FURTHER INFORMATION CONTACT: If you have questions on this temporary deviation, call or email Judy K. Leung-Yee, Bridge Management Specialist, U.S. Coast Guard; telephone 212-514-4336, email Judy.K.Leung-Yee@uscg.mil.

SUPPLEMENTARY INFORMATION: On July 6, 2017, we published a temporary deviation entitled, “Drawbridge Operation Regulation; Marine Parkway Bridge, Jamaica Bay, Queens, NY” in the Federal Register (82 FR 31255). The temporary deviation concerned the bridge owner's rehabilitation work associated with the replacement of lift span machinery. This deviation from the operating regulations was authorized under 33 CFR 117.35.

During the recent replacement/rehabilitation of lift span systems, water was discovered inside the power and communication cables from the main electrical rooms on the lower level of the towers to the machinery rooms at the tops of the towers. In addition, structural steel for riser conduit support was discovered to be in need of immediate repairs and/or replacement. Therefore, more time is needed to complete the job, conduct tests, and inspections. The subject temporary deviation will be replaced with a temporary interim rule because an extension of time could not be approved, as it exceeds the 180 day limit.

Dated: November 21, 2017.
Christopher J. Bisignano,
Supervisory Bridge Management Specialist, First Coast Guard District.

[FR Doc. 2017-25532 Filed 11-24-17; 8:45 am]

BILLING CODE 9110-04-P